DEPARTMENT OF TRANSPORTATION

Office of the Secretary

[OST Docket No. 2007-27401 and OST Docket No. 2003-11473]

RIN 2105-ADO4

Request for Public Comments and Office of Management and Budget (OMB) Approval of an Existing Information Collection (2105-0551)

AGENCY: Office of the Secretary (OST), DOT.

ACTION: Correction notice.

SUMMARY: This notice requests public participation in the Office of Management and Budget approval process for the renewal of an existing OST information collection. In compliance with the Paperwork Reduction Act of 1995, this notice announces that the Information Collection Request (ICR) described below has been forwarded to OMB for extension of the currently approved collection. The ICR describes the nature of the information and the expected burden. OST published a Federal Register notice soliciting comments on the following collection of information and received none. The purpose of this notice is to allow the public an additional 30 days from the date of this notice to submit comments and to make a correction to the recently published application to renew ICR 2105-0551, “Reporting Requirements for Disability-Related Complaints.”

DATES: Comments on this notice must be received by July 9, 2007.

ADDRESSES: Comments on this action must refer to the docket and notice numbers cited at the beginning of this document and must be submitted to the Docket Management Facility, Office of the Secretary, located at 1200 New Jersey Avenue, SE., West Building Ground Floor, Room W12-140, Washington, DC 20590. The DOT Docket Facility is open to the public from 9 a.m. to 5 p.m., Monday through Friday, except federal holidays. The telephone number is 202-366-9329. Comments will be available for inspection at this address and will also be viewable via the Web site for the Docket Management System at http://dms.dot.gov.

FOR FURTHER INFORMATION CONTACT: Blane A. Workie, Office of the General Counsel, 400 7th Street, SW., Room 4116, Washington, D.C. 20590, (202) 366-9342 (voice), (202) 366-7152 (Fax), blane.workie@dot.gov (E-mail). Arrangements to receive this document in an alternative format may be made by contacting the above-named individuals.

SUPPLEMENTARY INFORMATION: The application to renew this information collection request, which was published in the Federal Register on Thursday, March 1, 2007 (72 FR 9385), describes only one of the three information collection requirements imposed on the airlines by a July 8, 2003 final rule. More specifically, it addressed the requirement for each covered carrier to submit an annual report summarizing the disability-related complaint data but did not address the requirement for such carriers to record and categorize disability-related complaints that they receive according to type of disability and nature of complaint on a standard form nor the requirement for carriers to retain correspondence and record of action taken for all disability-related complaints. This notice provides detailed information about the two information collection requirements which were inadvertently not included in the March 2007 notice announcing the Department's intention to renew approval of the ICR on the “Reporting Requirements for Disability-Related Complaints” and corrects some of the information provided about the other information collection requirement (i.e., requirement to submit an annual report summarizing the disability-related complaint data). It also explains that the Department believes that the total burden hours for the three information collection requirements would be 3418 hours instead of 8753 hours as estimated in 2003.

The title, description, respondent description of the information collections and the annual recordkeeping and periodic reporting burden are provided below. It is worth noting that, while the formulas upon which the information collection calculations are based have not changed, the information collection burden hours have changed based on new information available to the Department. As stated above, the estimated total burden hours has been reduced from 8753 to 3418.

ICR 2105-0551, “Reporting Requirements for Disability-Related Complaints”

(1) Requirement to read, record and categorize each disability related complaint from a passenger or on behalf of a passenger.

Respondents: Certificated U.S. air carriers and foreign air carriers operating to and from the United States that conduct passenger-carrying service with large aircraft.

Estimated Annual Burden on Respondents: 0 minutes to 875 hours a year for each respondent (time to record and categorize one complaint [15 minutes] multiplied by the number of complaints respondents receive [0 complaint a year to 3,500 annual complaints a year]. The number of complaints received by carriers varies greatly. In 2003, we estimated that carriers would receive anywhere from 1 complaint a year to 4,000 annual complaints a year. Based on data provided by carriers in 2004, 2005, and 2006, we believe that a range of 0 to 3500 annual complaints a year is more accurate.

Estimated Total Annual Burden: 3238 hours for all respondents (time to record and categorize one complaint [15 minutes] multiplied by the total number of complaints for all respondents [12,952]). In 2003, we estimated that the total number of complaints for all respondents would be 33,050. Based on a review of the data provided by carriers, it appears that our 2003 estimate was too high. Carriers received a total of 11,508 complaints in 2004, a total of 13,584 complaints in 2005, and a total of 13,764 complaints in 2006 for an average of 12,952 annual complaints.

Frequency: 0 to 3,000 complaints per year for each respondent (Some carriers may not receive any complaint in a given year while some of the larger operators could receive 3,000 annual complaints).

(2) Requirement to submit a report to DOT summarizing the disability-related complaint data (key-punching web-based matrix report).

Respondents: Certificated U.S. air carriers and foreign air carriers operating to and from the United States that conduct passenger-carrying service with large aircraft.

Estimated Annual Burden on Respondents: 30 minutes a year for each respondent to type in the 169 items (matrix consists of 13 disabilities and 13 service problems).

Estimated Total Annual Burden: 80 hours for all respondents (annual burden [30 minutes] multiplied by the total number respondents [160]). In 2003, we estimated the total number of respondents to be anywhere from 295 to 370. However, based on the number of carriers that reported data in 2004, 2005 and 2006 as well as the carriers that did not but should have submitted such data, we now believe that the total number of respondents is approximately 160.

Frequency: 1 report to DOT per year for each respondent.

Estimated Number of Responses: 160 (frequency of report [1 per year] multiplied by the total number of respondents [160].

(3) Requirement to retain correspondence and record of action taken on all disability-related complaints for three years.

Respondents: Foreign air carriers operating to and from the United States that conduct passenger carrying service with large aircraft.

Estimated Annual Burden on Respondents: 1 hour a year for each respondent.

Estimated Total Annual Burden: 100 hours for all respondents (annual burden [1 hour] multiplied by the total number respondents [100]. In 2003, we estimated that the total number of foreign air carriers that would be required to submit an annual report to DOT would be 231 to 306. However, we have found that not all of the foreign air carriers that have authority to fly into the U.S. actually do so. It appears that the total number of foreign air carriers that would be covered is approximately 100.

Frequency: 0 to 300 complaints per year for each respondent. The data provided by foreign air carriers operating to and from the United States that conduct passenger carrying service with large aircraft demonstrates that that number of complaints received by such carriers varies greatly from a low of 0 to a high of almost 300.

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. As noted earlier, OST published a Federal Register notice with a 60 day comment period for this ICR on Thursday, March 1, 2007 (72 FR 9385).

Issued in Washington, DC, on May 30, 2007, under authority delegated in 49 CFR part 1.
Rosalind A. Knapp,
Acting General Counsel.

[FR Doc. E7-11094 Filed 6-6-07; 8:45 am]

BILLING CODE 4910-9X-P